DEPARTMENT OF THE INTERIOR

National Park Service

General Management Plan, Final Environmental Impact Statement, Devils Tower National Monument, Crook County, Wyoming

AGENCY: National Park Service, Department of the Interior.

ACTION: Availability of Final Environmental Impact Statement and General Management Plan for Devils Tower National Monument.

SUMMARY: Pursuant to section 102 (2) (c) of the National Environmental Policy Act of 1969, the National Park Service announces the availability of a final Environmental Impact Statement and General Management Plan (FEIS/GMP) for Devils Tower National Monument, Wyoming.

DATES: The Draft EIS/GMP was on public review from July 2, through September 30, 2001. Responses to public comment are addressed in the FEIS/GMP. A 30-day no-action period will follow the Environmental Protection Agency's Notice of Availability of the FEIS/GMP.

ADDRESSES: Copies of the FEIS/GMP are available from the Superintendent, Devils Tower National Monument, P.O. Box 10, Devils Tower, WY 82714. Public reading copies of the FEIS/GMP will be available for review at the following locations:

Office of the Superintendent, Devils Tower National Monument, P.O. Box 10, Devils Tower, WY 82714, Telephone: (307) 467-5283 x 14.

Planning and Environmental Quality, Intermountain Support Office—Denver, National Park Service, P.O. Box 25287, Denver, CO 80225-0287, Telephone: (303) 969-2851 or (303)969-2377.

Office of Public Affairs, National Park Service, Department of the Interior, 18th and C Streets NW, Washington, DC 20240, Telephone: (202) 208-6843.

FOR FURTHER INFORMATION CONTACT: Superintendent, Devils Tower National Monument, (307) 467-5282 x 14.

SUPPLEMENTARY INFORMATION: The FEIS/GMP analyzes five alternatives to manage natural and cultural resources, visitor use and access, general development and park operations. The alternatives address issues including the following. The national monument is subject to visitor congestion, including vehicular circulation and parking, and crowded visitor facilities. None of the four buildings where park staff works has adequate space for office requirements, storage, meetings, or breaks. The space available for the cooperating association's offices and bookstore is inadequate. Congestion and inadequate facilities limit the staff's ability to offer orientation and interpretation that would ensure visitor understanding of the monument's significance and allow visitors to make the best use of their time. Flood control structures on the Belle Fourche River inside and outside the monument have severely damaged the riparian woodland system. Modern recreational use, developments, and climbing on the Tower are sometimes in conflict with American Indian traditional cultural values. High levels of development, visitor use, and crowding at the base of the Tower are not consistent with the spiritual nature of the area. Alternative 1, the no action alternative represents the continuation of existing conditions and management at the monument. Alternative 2 would reduce overall development to improve the monument's natural setting, institute a reservation system during periods of peak visitation, and convert the parking area at the base of the Tower to a pedestrian plaza. Alternative 3, the NPS preferred alternative, would institute a shuttle system for use during peak visitation periods, construct a shuttle staging area and visitor orientation facilities within the monument, and convert the parking area at the base of the Tower to a pedestrian plaza. Alternative 4 would also institute a shuttle system, but would construct/relocate staging and visitor orientation facilities, along with headquarters and maintenance facilities, outside the monument boundaries. Alternative 5 would continue to offer visitor experiences similar to those presently available, but would expand, pave, and upgrade parking areas and roads, and/or add facilities to reduce visitor congestion.

The FEIS/GMP in particular evaluates the environmental consequences of the proposed action and the other alternatives on the prairie dog (a candidate for listing as threatened by the Fish and Wildlife Service), wetlands, floodplains, ethnographic and historic resources, visitors' experience of monument resources, visitor access and freedom to go at one's own pace, access to orientation and interpretation, visitor safety, businesses and neighbors, and local and regional economy.

Dated: December 7, 2001.
R. Everhart,
Acting Director, Intermountain Region, National Park Service.

[FR Doc. 02-6610 Filed 3-20-02; 8:45 am]

BILLING CODE 4310-70-P